DEPARTMENT OF HOMELAND SECURITY

U.S. Customs and Border Protection

[Docket No. USCBP-2014-0010]

Request for Applicants for Appointment to the Advisory Committee on Commercial Operations of Customs and Border Protection (COAC)

AGENCY: U.S. Customs and Border Protection, Department of Homeland Security (DHS).

ACTION: Committee Management; Request for Applicants for Appointment to COAC.

SUMMARY: U.S. Customs and Border Protection (CBP) is requesting individuals who are interested in serving on the Advisory Committee on Commercial Operations of U.S. Customs and Border Protection (COAC) to apply for appointment. COAC provides advice and makes recommendations to the Secretaries of the Treasury and Homeland Security (DHS) on all matters involving the commercial operations of CBP and related functions.

DATES: Applications for membership should reach CBP at the address below on or before June 23, 2014.

ADDRESSES: If you wish to apply for membership, your application should be submitted by one of the following means:

• Email: Traderelations@dhs.gov.

• Fax: 202-325-4290.

• Mail: Ms. Wanda Tate, Management & Program Analyst, Office of Trade Relations, Customs and Border Protection, 1300 Pennsylvania Avenue NW., Room 3.5A, Washington, DC 20229.

FOR FURTHER INFORMATION CONTACT: Ms. Wanda Tate, Management & Program Analyst, 1300 Pennsylvania Avenue NW., Room 3.5A, Washington, DC 20229. Email Wanda.J.Tate@cbp.dhs.gov; telephone 202-344-1440; facsimile 202-325-4290.

SUPPLEMENTARY INFORMATION: COAC is an advisory committee established in accordance with the provisions of the Federal Advisory Committee Act, 5 U.S.C. App. COAC provides advice and makes recommendations to the Secretaries of the Treasury and Homeland Security (DHS) on all matters involving the commercial operations of CBP and related functions.

Balanced Membership Plans

The COAC consists of 20 members who are selected from representatives of the trade or transportation community served by CBP or others who are directly affected by CBP commercial operations and related functions. The members shall represent the interests of individuals and firms affected by the commercial operations of CBP. The members will be appointed by the Secretaries of the Treasury and Homeland Security from candidates recommended by the Commissioner of CBP. In addition, members will represent major regions of the country, and, by statute, not more than ten (10) members may be affiliated with the same political party.

It is expected that, during its upcoming fourteenth two-year term, COAC will consider issues relating to: Global supply chain security and facilitation; CBP modernization and automation; air cargo security; customs broker regulations; trade enforcement; “One U.S. Government” approach to exports and to trade and safety of imports; agricultural inspection; revenue collection; and protection of intellectual property rights.

Committee Meetings

The Committee meets at least once each quarter, although additional meetings may be scheduled. Generally, every other meeting of the Committee may be held outside of Washington, DC, usually at a CBP port of entry. The members are not reimbursed for travel or per diem.

Committee Membership

Membership on the Committee is personal to the appointee and a member may not send an alternate to represent him or her at a Committee meeting. Appointees will serve a two-year term of office that will be concurrent with the duration of the charter. Regular attendance is essential; a member who is absent for two consecutive meetings, or does not participate in the committee's work, may be recommended for replacement on the Committee.

No person who is required to register under the Foreign Agents Registration Act, 22 U.S.C. 611 et seq. as an agent or representative of a foreign principal may serve on this advisory Committee. If you are federally-registered lobbyist you will not be eligible to apply for appointment.

Members who are currently serving on the Committee are eligible to re-apply for membership provided that they are not in their second consecutive term and that they have met the attendance requirements. A new application letter (see ADDRESSES above) is required, but it may incorporate by reference materials previously filed (please attach courtesy copies). Members will not be considered Special Government Employees and will not be paid compensation by the Federal Government for their representative services with respect to the COAC.

Application for Advisory Committee Appointment

Any interested person wishing to serve on the COAC must provide the following:

• Statement of interest and reasons for application;

• Complete professional resume;

• Home address and telephone number;

• Work address, telephone number, and email address;

• Political affiliation in order to ensure balanced representation. (Required by COAC's authorizing legislation; if no party registration or allegiance exists, indicate “independent” or “unaffiliated”);

• Statement of the industry you represent;

• Statement whether you are a federally-registered lobbyist; and

• Statement agreeing to submit to pre-appointment background and tax checks (mandatory). However, a national security clearance is not required for the position.

DHS does not discriminate on the basis of race, color, religion, sex, national origin, sexual orientation, gender identity, marital status, disability and genetic information, age, membership in an employee organization, or other non-merit factor. DHS strives to achieve a widely diverse candidate pool for all of its recruitment actions.

Dated: May 5, 2014.
R. Gil Kerlikowske,
Commissioner.

[FR Doc. 2014-10619 Filed 5-7-14; 8:45 am]

BILLING CODE 9111-14-P